DEPARTMENT OF TRANSPORTATION

Federal Aviation Administration

Notice of Intent to Rule on Application to Impose and Use the Revenue From a Passenger Facility Charge (PFC) at Capital City Airport, Lansing, MI

AGENCY: Federal Aviation Administration (FAA), DOT.

ACTION: Notice of intent to rule on application.

SUMMARY: The FAA proposes to rule and invites public comment on the application to impose and use the revenue from a PFC at Capital City Airport under the provisions of the Aviation Safety and Capacity Expansion Act of 1990 (Title IX of the Omnibus Budget Reconciliation Act of 1990) (Public Law 101-508) and Part 158 of the Federal Aviation Regulations (14 CFR Part 158).

DATES: Comments must be received on or before October 1, 2001.

ADDRESSES: Comments on this application may be mailed or delivered in triplicate to the FAA at the following address: Federal Aviation Administration, Detroit Airports District Office, Willow Run Airport, East, 8820 Beck Road, Belleville, Michigan 48111. The application may be reviewed in person at this location.

In addition, one copy of any comments submitted to the FAA must be mailed or delivered to Mr. Thomas W. Schmidt, A.A.E., Executive Director, Capital City Airport at the following address: Capital City Airport, 4100 Capital City boulevard, Lansing, Michigan 48906.

Air carriers and foreign air carriers may submit copies of written comments previously provided to the Capital City Airport under section 158.23 of part 158.

FOR FURTHER INFORMATION CONTACT: Ms. Arlene B. Draper, Program Manager, Federal Aviation Administration, Detroit Airports District Office, Willow Run Airport, East, 8820 Beck Road, Belleville, Michigan 48111 (734-487-7282). The application may be reviewed in person at this same location.

SUPPLEMENTARY INFORMATION: The FAA proposes to rule and invites public comment on the application to impose and use the revenue from a PFC at Capital City Airport under the provisions of the Aviation Safety and Capacity Expansion Act of 1990 (Title IX of the Omnibus Budget Reconciliation Act of 1990) (Public Law 101-508) and Part 158 of the Federal Aviation Regulations (14 CFR part 158).

On August 3, 2001, the FAA determined that the application to impose and use the revenue from a PFC submitted by Capital City Airport was substantially complete within the requirements of section 158.25 of Part 158. The FAA will approve or disapprove the application, in whole or in part, not later than November 28, 2001.

The following is a brief overview of the application.

PFC application number: 01-04-C-00- LAN.

Level of the proposed PFC: $4.50.

Proposed charge effective date: July 1, 2005.

Proposed charge expiration date: July 30, 2011.

Total estimated PFC revenue: $8,913,046.00.

Brief description of proposed projects:

Impose and Use: Replace Multi User Flight Information Display System, Replace Security Access Control System, Overlay Taxiway C and End of Runway 24, Reconstruct Terminal Apron, Master Plan/Part 150 Update, Relocate Rental Car Lot, National Pollutant Discharge Elimination System Permit-Mitigation Phases II and III, PFC Consultation Fees, Replace Baggage Claim Equipment, Baggage Claim Expansion.

Impose Only: Reconstruct Taxiway Fillets, Gate Expansion, Purchase and Install Ground Level Loading Bridges. Class or classes of air carriers which the public agency has requested to be required to collect PFCs: non-scheduled part 135 and air taxi operators.

Any person may inspect the application in person at the FAA office listed above under FOR FURTHER INFORMATION CONTACT.

In addition, any person may, upon request, inspect the application, notice and other documents germane to the application in person at the Capital City Airport, 23810 Airpark Boulevard, Suite 113, Calumet, Michigan 49913.

Issued in Des Plaines, Illinois, on August 17, 2001.
Gary E. Nielsen,
Acting Manager, Planning and Programming Branch, Airports Division, Great Lakes Region.

[FR Doc. 01-22044 Filed 8-30-01; 8:45 am]

BILLING CODE 4910-13-M